DEPARTMENT OF ENERGY

Federal Energy Regulatory Commission

[Project No. 14861-002]

FFP Project 101, LLC; Notice of Modification of Procedural Schedule

Take notice that the schedule for processing the following hydroelectric application has been modified.

a. Type of Application: Original Major License.

b. Project No.: 14861-002.

c. Date Filed: June 23, 2020.

d. Applicant: FFP Project 101, LLC.

e. Name of Project: Goldendale Energy Storage Project.

f. Location: Off-stream on the north side of the Columbia River at River Mile 215.6 in Klickitat County, Washington, with transmission facilities extending into Sherman County, Oregon. The project would be located approximately 8 miles southeast of the City of Goldendale, Washington. The project would occupy 18.1 acres of lands owned by the U.S. Army Corps of Engineers and administered by the Bonneville Power Administration.

g. Filed Pursuant to: Federal Power Act 16 U.S.C. 791(a)-825(r).

h. Applicant Contact: Erik Steimle, Rye Development, 745 Atlantic Avenue, Boston, Massachusetts 02111; (503) 998-0230; email—erik@ryedevelopment.com.

i. FERC Contact: Michael Tust at (202) 502-6522; or email at michael.tust@ferc.gov.

j. Procedural Schedule: The Commission's February 2, 2023, Notice of Modification of Procedural Schedule established October 2023 as the target date for issuing the Final Environmental Impact Statement (Final EIS). The revised estimate for issuing the Final EIS is December 2023.

Any questions regarding this notice may be directed to Michael Tust.

Dated: October 25, 2023.
Kimberly D. Bose,
Secretary.

[FR Doc. 2023-24037 Filed 10-31-23; 8:45 am]

BILLING CODE 6717-01-P